DEPARTMENT OF THE INTERIOR

National Park Service

Cape Cod National Seashore; South Wellfleet, MA; Cape Cod National Seashore Advisory Commission; Two Hundred Fifty-Third Notice of Meeting

Notice is hereby given in accordance with the Federal Advisory Committee Act (Pub. L. 92-463, 86 Stat. 770, 5 U.S.C. App 1, Section 10), that a meeting of the Cape Cod National Seashore Advisory Commission will be held on June 20, 2005.

The Commission was reestablished pursuant to Public Law 87-126 as amended by Public Law 105-280. The purpose of the Commission is to consult with the Secretary of the Interior, or her designee, with respect to matters relating to the development of Cape Cod National Seashore, and with respect to carrying out the provisions of sections 4 and 5 of the Act establishing the Seashore.

The Commission members will meet at 1 p.m. in the meeting room at Headquarters, Marconi Station, Wellfleet, Massachusetts for the regular business meeting to discuss the following:

1. Adoption of Agenda

2. Approval of Minutes of Previous Meeting (April 11, 2005)

3. Reports of Officers

4. Reports of Subcommittees

5. Superintendent's Report

Salt Pond Visitor Center Update

Highlands Center Update

Update North of Highland Campground/TPL

Update on Dune Shack Report

Herring River Restoration Project

Update Eastham Ocean Beach

Wilderness Areas

Wind Turbines/Cell Towers

News from Washington

6. Old Business

7. New Business

8. Date and agenda for next meeting

9. Public comment and

10. Adjournment

The meeting is open to the public. It is expected that 15 persons will be able to attend the meeting in addition to Commission members.

Interested persons may make oral/written presentations to the Commission during the business meeting or file written statements. Such requests should be made to the park superintendent at least seven days prior to the meeting. Further information concerning the meeting may be obtained from the Superintendent, Cape Cod National Seashore, 99 Marconi Site Road, Wellfleet, MA 02667.

Dated: May 6, 2005.
George E. Price, Jr.,
Acting Superintendent.

[FR Doc. 05-10730 Filed 5-27-05; 8:45 am]

BILLING CODE 4312-52-P